Proclamation 9271 of May 1, 2015

Public Service Recognition Week, 2015

By the President of the United States of America

A Proclamation

A Government of, by, and for the people is sustained only through the hard work and extraordinary sacrifice of millions of citizens willing to serve the country they love. From the moment an early band of patriots first came together to secure the blessings of liberty for all, public servants have worked to create a more perfect Union. Today—in every city and every town—Americans proudly carry forward this tradition of service, which has built our Nation and strengthened its promise. This week, we recognize all those who dedicate their lives to this noble pursuit, and we celebrate the tremendous difference they make every day.

In the face of difficult challenges, public servants give new life to the values that bind our Nation together. Civil servants are scientists and teachers, social workers and first responders—they are the leaders of today's progress and the innovators of tomorrow's breakthroughs. With determination and resolve, they defend our country overseas and work to widen the circle of opportunity and prosperity here at home. And despite tough circumstances—including pay freezes, budget cuts, sequestration, and a political climate that too often does not sufficiently value their work—these exceptional leaders continue to make real the fundamental truth that people who love their country can change it.

With more than 2 million civilian workers and more than 1 million active duty service members, our Federal workforce represents extraordinary possibility. Our Government can and must be a force for good, and together, we can make sure our democracy works for all Americans. We know there are some things we do better when we join in common purpose, and with hard work and a commitment worthy of our Nation's potential, we can keep our country safe, guarantee basic security, and ensure everyone has a shot at success.

As President, I am dedicated to engaging our workforce and investing in the people who strive every day to help our Nation live up to its limitless promise. My Administration is advancing efforts to train and develop the next generation of civil servants and equip them with the skills to lead change, build coalitions, and collaborate across Government to solve big problems. We are also finding new ways to improve how we recruit, empower, and retain the most diverse and very best talent, ensuring careers in public service will continue to attract the brightest of the coming generations. I am committed to lifting up the outstanding work that is done every day and to fostering an environment where all our employees feel valued, engaged, and included.

Public service is a calling which has meant so much to so many. It embodies our sense of shared values and reflects our drive to serve a cause beyond our own—to give back to our Nation, leave our mark, and nudge history forward. There is no greater opportunity to help more people or to make a bigger difference. During Public Service Recognition Week, we honor the women and men who power our local, State, and Federal governments, and we recommit to tackling the toughest challenges with the most talented workforce.

NOW, THEREFORE, I, BARACK OBAMA, President of the United States of America, by virtue of the authority vested in me by the Constitution and the laws of the United States, do hereby proclaim May 3 through May 9, 2015, as Public Service Recognition Week. I call upon all Americans to recognize the hard work and dedication of our Nation's public servants and to observe this week by expressing their gratitude and appreciation through appropriate activities, events, and programs.

IN WITNESS WHEREOF, I have hereunto set my hand this first day of May, in the year of our Lord two thousand fifteen, and of the Independence of the United States of America the two hundred and thirty-ninth.

[FR Doc. 2015-11109

Filed 5-5-15; 11:15 am]

Billing code 3295-F5